DEPARTMENT OF HOUSING AND URBAN DEVELOPMENT

[Docket No. FR-4951-N-01]

Notice of Funding Availability for Fiscal Year (FY) 2005 Self-Help Homeownership Opportunity Program (SHOP)

AGENCY: Office of the Assistant Secretary for Community Planning and Development, HUD.

ACTION: Notice of Funding Availability (NOFA).

Overview Information

A. Federal Agency Name: Department of Housing and Urban Development, Office of Community Planning and Development.

B. Funding Opportunity Title: Self-Help Homeownership Opportunity Program (SHOP).

C. Announcement Type: Initial announcement.

D. Funding Opportunity Number: The Federal Register number for this NOFA is FR-4951-N-01. The Office of Management and Budget (OMB) paperwork approval number is 2506-0157.

E. Catalog of Federal Domestic Assistance (CFDA) Number: Self-Help Homeownership Opportunity Program. The CFDA number is 14.247.

F. Application Deadline: The application submission date is November 7, 2005. Applications may be submitted electronically or in paper version. Applications submitted electronically through www.Grants.gov must be received by grants.gov no later than 11:59:59 p.m. eastern time on the application submission date. Applicants submitting paper applications must send their applications via the United States Postal Service (USPS) no later than 11:59:59 p.m. eastern time on the application submission date. Please see the General Section of the SuperNOFA (70 FR 13575) published March 21, 2005, for further information about application submission, delivery, and timely receipt requirements.

G. Optional, Additional Overview Content Information: SHOP funds are awarded to national and regional nonprofit organizations and consortia demonstrating experience in administering self-help housing programs in which the homebuyers contribute a significant amount of sweat-equity toward construction or rehabilitation of the dwelling.

The amount available for SHOP in Fiscal Year (FY) 2005 is approximately $24,800,000 to be awarded to eligible applicants.

Full Text of Announcement

I. Funding Opportunity Description

A. Program Description

SHOP funds are intended to facilitate and encourage innovative homeownership opportunities on a national geographically diverse basis through self-help housing programs that require a significant amount of sweat-equity by the homebuyer toward the construction or rehabilitation of the dwelling.

SHOP programs are administered by national and regional nonprofit organizations and consortia. Units developed with SHOP funds must be decent, safe, and sanitary non-luxury dwellings and must be made available to eligible homebuyers at prices below the prevailing market prices. Eligible homebuyers are low-income individuals and families (i.e., those whose annual incomes do not exceed 80 percent of the median income for the area, as established by HUD) who would otherwise be unable to purchase a dwelling but for the provision of sweat equity. Housing assisted under this NOFA must involve labor contributed by homebuyers and volunteers in the construction of dwellings and by other activities that involve the community in the project.

B. Authority

The funding made available under this program is authorized by Section 11 of the Housing Opportunity Program Extension Act of 1996 (42 U.S.C. 12805 note) (the “Extension Act”).

II. Award Information

Approximately $24,800,000 will be available for this program in FY 2005. Any unobligated funds from previous competitions or additional funds that may become available due to deobligation or recapture from previous awards or budget transfers may be added to the FY 2005 appropriation to fund applications submitted in response to this NOFA. Awards will be made to successful applicants in the form of a grant. The period for drawing funds is up to 36 months from the date HUD establishes a line of credit for successful applicants.

III. Eligibility Information

A. Eligible Applicants

You must be a national or regional nonprofit public or private organization or consortium that has the capacity and experience to provide or facilitate self-help housing homeownership opportunities. Your organization or consortium must undertake eligible SHOP activities directly and/or provide funding assistance to your local affiliates to carry out SHOP activities.

A national organization is defined as an organization that carries out self-help housing activities or funds affiliates that carry out self-help housing activities on a national scope. A national organization must propose in its application to use a significant amount of SHOP funds in at least two states.

A regional organization is defined as an organization that carries out self-help housing activities or funds affiliates that carry out self-help housing activities on a regional scope. A regional area is a geographic area, such as the Southwest or Northeast, that includes at least two states. The regional organization must propose to use a significant amount of SHOP funds in at least two states. The states in the region need not be contiguous, and the service area of the organization need not precisely conform to state boundaries. Affiliates working under regional organizations must be located within the regional organization's service area.

A consortium is defined as two or more nonprofit organizations located in at least two states that individually have the capacity and experience to carry out self-help housing activities or fund affiliates that carry out self-help housing activities on a national or regional scope and enter into an agreement to submit a single application for SHOP funding on a national or regional basis. The consortium must propose to use a significant amount of SHOP funds in each state represented in the consortium. One organization must be designated as the lead entity. The lead entity must submit the application and, if selected for funding, execute the SHOP Grant Agreement with HUD and assume responsibility for the grant on behalf of the consortium in compliance with all program requirements.

A consortium agreement, executed and dated by all consortium members for the purpose of applying for and using FY 2005 SHOP funds, must be submitted with your application. All consortium members must be identified in your application. A consortium's application must be a single integrated document that demonstrates the consortium's comprehensive approach to self-help housing. If individual consortium members use different program designs, your application must briefly describe in factor 3 the program design of each consortium member. Upon being funded, the lead entity must enter into a separate agreement with each consortium member. The agreement must incorporate the requirements of the FY 2005 SHOP Grant Agreement between HUD and the consortium and outline the individual consortium member's responsibilities for compliance with HUD's 2005 SHOP program.

An affiliate is defined as:

(1) a local public or private nonprofit self-help housing organization which is a subordinate organization (i.e., chapter, local, post, or unit) of a central organization and covered by the group exemption letter issued to the central organization under Section 501(c)(3) of the Internal Revenue Code;

(2) a local public or private nonprofit self-help housing organization with which the applicant has an existing relationship (e.g., the applicant has provided technical assistance or funding to the local self-help housing organization); or

(3) a local public or private nonprofit self-help housing organization with which the applicant does not have an existing relationship, but to which the applicant will provide necessary technical assistance and mentoring as part of funding under the application.

You must carry out eligible activities or you must enter into an agreement to fund affiliates to carry out eligible activities. If you are a consortium, each of your affiliates must be linked to an individual consortium member.

Your application may not propose to fund any affiliate or consortium member that is also included in another SHOP application. You must ensure that any affiliate or consortium member under your FY 2005 application is not also seeking FY 2005 SHOP funding from another SHOP applicant. If an affiliate applies for funds through more than one applicant, it may be disqualified for any funding.

B. Cost Sharing or Matching

There is no match requirement for the SHOP funds. However, you are expected to leverage resources for the construction of self-help housing assisted with SHOP. Failure to provide documentation of leveraged resources that meet the submission requirements for firm commitments as stated in factor 4 will result in a lower application score.

C. Other

1. Eligible Activities

Eligible activities are:

a. Land acquisition (including financing and closing costs), which may include reimbursing an organization, consortium, or affiliate, upon approval of any required environmental review, for non-grant amounts expended by the organization, consortium, or affiliate to acquire land before completion of the review;

b. Infrastructure improvements (installing, extending, constructing, rehabilitating, or otherwise improving utilities and other infrastructure, including removal of environmental hazards); and

c. Administration, planning, and management development, including the costs of general management, oversight, and coordination of the SHOP grant, staff and overhead costs of the SHOP grant, costs of providing information to the public about the SHOP grant, costs of providing civil rights training to local affiliates as well as any expenses involved in affirmatively furthering fair housing, and indirect costs (such as rent and utilities) of the grantee or affiliate in carrying out the SHOP activities.

2. Threshold Requirements

HUD will not consider an application from an ineligible applicant. An applicant must meet all of the applicable threshold requirements of Section III.C of the General Section of the SuperNOFA (70 FR 13575). Each applicant must meet and comply with the SHOP threshold requirements described below:

a. Organization and Eligibility. You must be eligible to apply under SHOP (see Section III.A. of this program section).

b. Non-Profit Status. You must describe how you qualify as an eligible applicant and provide evidence of your public or private nonprofit status, such as a current Internal Revenue Service (IRS) ruling that your organization is exempt from taxation under Section 501(c)(3) or 501(c)(4) of the Internal Revenue Code of 1986. If you are a consortium, each participant in your consortium must be a nonprofit organization. Each consortium member must submit evidence of its nonprofit status to the lead entity for inclusion in the consortium's application package.

c. Consortium Agreement. If you are a consortium, each consortium member must enter into and sign a consortium agreement for the purpose of applying for and carrying out SHOP activities. Your consortium agreement must be submitted as an appendix to your application.

d. Amount. The amount of SHOP funds you request must be sufficient to complete a minimum of 30 self-help housing units and may not exceed an average investment of $15,000 per unit.

e. Homebuyer Eligibility. The population you propose to serve must be eligible for SHOP assistance. Eligible homebuyers are low-income individuals and families (i.e., those whose incomes do not exceed 80 percent of the median income for the area, as established by HUD). You must specify the definition of “annual income” to be used in your proposed program. You may use one of the following three definitions of “annual income” to determine whether a homebuyer is income eligible under SHOP:

(1) “Annual income” as defined at 24 CFR 5.609; or

(2) “Annual income” as reported under the Census long-form for the most recent available decennial Census; or

(3) “Adjusted gross income” as defined for purposes of reporting under the IRS Form 1040 series for individual federal annual income tax purposes.

You may also adopt or develop your own definition of annual income for use in determining income eligibility under SHOP subject to review and approval by HUD.

f. Experience. You must demonstrate that you have successfully completed at least 30 self-help homeownership units in a national or regional area within the 24-month period immediately preceding the publication of this NOFA. To qualify as self-help homeownership units, the homebuyers must have contributed a significant amount of sweat-equity toward the construction of the dwellings as set forth in Section III.C.2(g) below.

g. Sweat Equity. Your program must require homebuyers to contribute a minimum of 100 hours of sweat equity toward the construction or rehabilitation of their own homes and/or the homes of other homebuyers participating in the self-help housing program. However, in the case of a household with only one adult, the requirement is 50 hours of sweat equity toward the construction of these homes. This includes training for construction on the dwelling units, but excludes homebuyer counseling and home maintenance training. All homebuyers must meet these minimum hourly sweat equity requirements; however, grantees must permit reasonable accommodations for persons with disabilities in order for them to meet the hourly requirements. For example, homebuyers with disabilities may work on less physical tasks or administrative tasks to meet this requirement or a volunteer(s) may enter into an agreement to substitute for the disabled person.

h. Community Participation. Your program must involve community participation in which volunteers assist in the construction of dwellings. Volunteer labor is work performed by an individual without promise, expectation, or compensation for the work rendered. For mutual self-help housing programs that are assisted by the U.S. Department of Agriculture's Rural Housing Services/Rural Development under Section 523 of the Housing Act of 1949 (7 CFR Part 1944, subpart I) or which have a program design similar to the Section 523 program, the work by each participating family on other participating families' homes may count as volunteer labor. A mutual self-help housing program generally involves 4 to 10 participating families organized in a group to use their own labor to reduce the total construction cost of their homes and complete construction work on their homes by an exchange of labor with one another.

i. Eligible Activities. You must propose to use the SHOP funds for eligible activities (see Sections III.C.1 and IV.D.). You must carry out the activities or you must fund affiliates to carry out the activities.

3. Threshold Submission Requirements

In order for your application to be rated and ranked, all threshold requirements must be met. Threshold requirements 2 (d) through (i) above do not require separate submissions. These requirements must be addressed under the submission requirements for the rating factors listed below in Section V, Application Review Information Criteria, of this SHOP NOFA.

4. Other Requirements

a. Affirmatively Furthering Fair Housing. SHOP recipients must affirmatively further fair housing.

b. Economic Opportunities for Low- and Very Low-Income Persons (Section 3). SHOP recipients must comply with Section 3 of the Housing and Urban Development Act of 1968 (Section 3), 12 U.S.C. 170lu (Economic Opportunities for Low- and Very Low-Income Persons in Connection with Assisted Projects), and the HUD regulations at 24 CFR part 135, including the reporting requirement of subpart E. Section 3 requires recipients to ensure that to the greatest extent feasible, training, employment, and other economic opportunities will be directed to low- and very-low income persons, particularly those who are recipients of government assistance for housing, and business concerns that provide economic opportunities to low- and very-low income persons.

c. Ensuring the Participation of Small Businesses, Small Disadvantaged Businesses, and Women-Owned Businesses. SHOP recipients (grantees and affiliates) must comply with 24 CFR 84.44(b) to take all necessary affirmative steps in contracting for the purchase of goods or services to assure that minority firms, women's business enterprises, and labor surplus area firms are used whenever possible.

d. Executive Order 13166, “Improving Access to Services for Persons With Limited English Proficiency (LEP).” See the General Section for requirements for providing access to services under this Executive Order.

e. Executive Order 13279, “Equal Protection of the Laws for Faith-Based and Community Organizations.” See the General Section.

f. Participation in HUD-Sponsored Program Evaluation. See the General Section.

g. Executive Order 13202, “Preservation of Open Competition and Government Neutrality Towards Government Contractors' Labor Relations on Federal and Federally Funded Construction Projects.” See the General Section.

h. Salary Limitation for Consultants. See the General Section.

i. Real Property Acquisition and Relocation. SHOP projects are subject to the Uniform Relocation Assistance and Real Property Acquisition Policies Act of 1970, as amended (Uniform Act or URA) (42 U.S.C. 4601), and the government-wide implementing regulations issued by the U.S. Department of Transportation at 49 CFR part 24.

The Uniform Act is a federal law that establishes minimum standards for federally funded programs and projects that require the acquisition of real property (real estate) or displace persons from their homes, businesses, or farms. The Uniform Act's protections and assistance apply to the acquisition, rehabilitation, or demolition of real property for federal or federally funded projects. The Uniform Act was enacted by Congress to ensure that people whose real property is acquired, or who move as a direct result of projects receiving federal funds, are treated fairly and equitably and receive assistance in moving from the property they occupy.

SHOP grantees and affiliates must comply with all applicable Uniform Act requirements in order to receive SHOP funds for their programs and projects; non-compliance could jeopardize SHOP funding. Real property acquisitions for a SHOP-assisted program or project conducted prior to completion of an environmental review and HUD's approval of a request for release of funds and environmental certification are also subject to the Uniform Act. SHOP grantees and affiliates must ensure that all such real property acquisitions comply with applicable Uniform Act requirements.

Generally, real property acquisitions conducted without the threat or use of eminent domain, commonly referred to as “voluntary acquisitions,” must satisfy the applicable requirements and criteria of 49 CFR 24.101(b)(1) through (5). Evidence of compliance with these requirements must be submitted to and be maintained by the SHOP grantee. It is also important to note that tenants who occupy property which may be acquired through voluntary means must be fully informed as to their eligibility for relocation assistance. This includes notifying such tenants of their potential eligibility when negotiations are initiated, notifying them if they become fully eligible, and, in the event the purchase of the property will not occur, notifying them that they are no longer eligible for relocation benefits. Evidence of compliance with these requirements must be submitted to and be maintained by the SHOP grantee.

Additional information and resources pertaining to real property acquisition and relocation for HUD-funded programs and projects are available on HUD's Real Estate Acquisition and Relocation Web site at http://www.hud.gov/relocation. You will find applicable laws and regulations, policy and guidance, publications, training resources, and a listing of HUD contacts if you have questions or need assistance.

j. Environmental Requirements. The environmental review requirements for SHOP supersede the environmental requirements in the General Section. The provisions contained in section 305(c) of the Multifamily Housing Property Disposition Reform Act of 1994, implemented in the Environmental Review regulations at 24 CFR part 58, are applicable to properties assisted with SHOP funds. All SHOP assistance is subject to the National Environmental Policy Act of 1969 and related federal environmental authorities. SHOP grant applicants are cautioned that no activity or project may be undertaken, or federal or non-federal funds or assistance committed, if the project or activity would limit reasonable choices or could produce an adverse environmental impact until all required environmental reviews and notifications have been completed by a unit of general local government, tribe, or state and until HUD approves a recipient's request for release of funds under the environmental provisions contained in 24 CFR part 58. Notwithstanding the preceding sentence, in accordance with section 11(d)(2)(A) of the Housing Opportunity Extension Act of l996 and HUD Notice CPD-01-09, an organization, consortium, or affiliate receiving SHOP assistance may advance non-grant funds to acquire land prior to completion of an environmental review and HUD's approval of a request for release of funds and environmental certification. Any advances to acquire land prior to such approval are made at the risk of the organization, consortium, or affiliate, and reimbursement from SHOP funds for such advances will depend on the result of the environmental review.

k. Statutory and Program Requirements. SHOP is governed by Section 11 of the Housing Opportunity Program Extension Act of 1996 (42 U.S.C. 12805 note) (the Extension Act), and this NOFA. There are no program regulations. You must comply with all statutory requirements applicable to SHOP as cited in Section I, Funding Opportunity Description, of this SHOP NOFA and the program requirements cited in this SHOP NOFA. Pursuant to these requirements, you must:

(1) Develop, through significant amounts of sweat-equity by each homebuyer and volunteer labor, at least 30 dwelling units at an average cost of no more than $15,000 per unit of SHOP funds for land acquisition and infrastructure improvements;

(2) Use your grant to leverage other sources of funding, including private or other public funds, to complete construction of the housing units;

(3) Develop quality dwellings that comply with local building and safety codes and standards, that will be made available to homebuyers at prices below the prevailing market price;

(4) Schedule SHOP activities to expend all grant funds awarded and substantially fulfill your obligations under your grant agreement, including timely development of the appropriate number of dwelling units. Grant funds must be expended within 24 months of the date that they are first made available for draw-down in a line of credit established by HUD for the Grantee, except that grant funds provided to affiliates that develop five or more units must be expended within 36 months; and

(5) Not require a homebuyer to make an up-front financial contribution to a housing unit other than cash contributed for down payment or closing costs at the time of acquisition.

IV. Application and Submission Information

A. Address To Request Application Package

This notice contains all the information necessary for national and regional nonprofit organizations and consortia to submit an application for SHOP funding. This section describes how you may obtain application forms, additional information about the SHOP program NOFA, and technical assistance. Copies of the published SHOP NOFA and related application forms for this NOFA may be downloaded from the grants.gov Web site at www.grants.gov/FIND. You may choose from links provided under the topic “Search Grant Opportunities,” which allows you to do a basic search or to browse by category or agency. If you have difficulty accessing the information, you may receive customer support from Grants.gov by calling its help line at (800) 518-GRANTS or sending an e-mail to support@grants.gov. The operators will assist you in accessing the information. If you do not have Internet access and you need to obtain a copy of this NOFA, you may contact HUD's NOFA Information Center toll-free at (800) HUD-2209.

1. Application Kit. There is no application kit for this program. All the information you need to apply is contained in this NOFA and available at www.grants.gov/Apply. HUD has made an effort to improve the readability of this NOFA and publish all required forms for application submission in the Federal Register. The NOFA forms are available to be downloaded from www.grants.gov/Apply by clicking on Apply Step 1. Please pay attention to the submission requirements and format for submission specified for this SHOP NOFA to ensure that you have submitted all required elements of your application.

The published Federal Register document is the official document that HUD uses to solicit applications. Therefore, if there is a discrepancy between any materials published by HUD in its Federal Register publications and other information provided in paper copy, electronic copy, or at www.grants.gov, the Federal Register publication prevails. Please be sure to review your application submission against the requirements in the Federal Register for this program NOFA.

2. Guidebook and Further Information. A guidebook to HUD programs entitled, “Connecting with Communities: A User's Guide to HUD Programs and the FY 2005 NOFA Process,” is available for the HUD NOFA Information Center and the HUD Web site at www.hud.gov/offices/adm/grants/fundsavail.cfm. The guidebook provides a brief description of all HUD programs, identifies eligible applicants for the programs, and provides examples of how programs can work in combination to serve local community needs. You can also get a copy from the NOFA Information Center at (800) HUD-8929 or, for the hearing impaired, (800 HUD-2209 (TTY) (these are toll-free numbers). The NOFA Information Center is open between the hours of 10 a.m. and 6:30 p.m. eastern time, Monday through Friday, except on Federal holidays.

B. Content and Form of Application Submission

You must meet all application and submission requirements described in Section IV.B of the General Section (70 FR 13581). Your application should consist of the items listed in the section below called Assembly Format and Content. HUD's standard forms can be found in Appendix B of the General Section (70 FR 13599).

1. Page Limits. There are page limits for responses to the five rating factors. A national or regional organization is limited to 60 pages of narrative to respond to the five rating factors. A consortium is permitted up to 10 additional pages total to accommodate the requirement to address the capacity and soundness of approach of its individual consortium members if they are different from that of the lead agency. Required appendices, forms, certifications, statements, and assurances are not subject to the page limitations. All pages must be numbered sequentially from 1 through 60 or 70, for factors 1 through 5. For paper submissions, tabs must be inserted to separate each factor. Your application may contain only the narrative statements that address the five rating factors and the required forms, certifications, assurances, and appendices listed in Assembly Format and Content below to be submitted for review. In responding to the five factors, information must be included in your narrative response to each factor, unless this NOFA states that it should be included as an appendix. If you are submitting material using the fax method described in the General Section (70 FR 13583), the narrative should refer to the documents being faxed as part of your narrative response to the factor. Any supplemental information not required in the narratives or appendices requested by HUD that further explains information required in the five factors will not be reviewed for consideration in the scoring of the application. Applicants are discouraged from submitting unnecessary documentation.

2. Assembly Format and Content. Your FY 2005 application will be comprised of an Application Overview, Narrative Statements (rating factors), Forms, and Appendices. In order to receive full consideration for funding, you should use the following checklist to ensure that all requirements are addressed and submitted with your electronic application. For applicants that submit a paper application, the application must be assembled according to the following checklist to ensure that all of the required items are submitted.

a. Application Overview (Not subject to the page limitations)

_SF-424, Application for Federal Assistance (signed by the Authorized Organization Representative (AOR) of the organization eligible to receive funds).

_SF-424 Supplement, Survey on Ensuring Equal Opportunity for Applicants.

_Self-Help Housing Organization Qualification—Narrative describing qualification as an eligible applicant and Evidence of Nonprofit Tax Exempt Status (in accordance with section III.C.2. of this NOFA).

_Consortium Agreement, if applicable.

_Program Summary.

b. Narrative Statements Addressing: (Subject to the page limitations described above.)

_Factor 1—Capacity of the Applicant and Relevant Organizational Staff.

_Factor 2—Need/Extent of the Problem.

_Factor 3—Soundness of Approach.

_Factor 4—Leveraging Resources.

_Factor 5—Achieving Results and Program Evaluation.

c. Forms, Certifications, and Assurances: (Not subject to the page limitations.)

_HUD-424CB, Grant Application Detailed Budget.

_HUD-424-CBW, Grant Application Detailed Budget Worksheet.

_SF-LLL, Disclosure of Lobbying Activities, as applicable.

_HUD-2880, Applicant/Recipient Disclosure/Update Report.

_HUD-2990, Certification of Consistency with the RC/EZ/EC-II Strategic Plan.

_HUD-2993, Acknowledgment of Application Receipt (paper submissions only).

_HUD-96011, Facsimile Transmittal (electronic submissions only).

_HUD-2994, Client Comments and Suggestions (optional)

_HUD-96010, Program Outcome Logic Model.

d. Appendices: (Not subject to the page limitations.)

_A copy of your code of conduct (see section III.C.3 of the General Section, 70 FR 13577).

_Leveraging documentation—firm commitment letters (see factor 4).

_Survey of potential affiliates, if applicable (see factor 2).

_Demonstration of past performance for new applicants (see factor 1).

_HUD-27300, Questionnaire for HUD's Initiative on Removal of Regulatory Barriers (see factor 3).

_Evaluative criteria for Removal of Regulatory Barriers to Affordable Housing in affiliate selection process, if applicable (see factor 3).

e. Certifications and Assurances. Applicants are placed on notice that by signing the SF-424 cover page noted above in 2.a., Application Overview, the applicant is certifying to all information described in Section IV.B.2 (“Certifications and Assurances”) in the General Section (70 FR 13581).

C. Submission Date and Time

1. The application submission date is November 7, 2005.

2. No Facsimiles or Videos. HUD will not accept for review, evaluation, or funding, any entire application sent by facsimile (fax). However, third-party documents or other materials sent by facsimile in compliance with the submission requirements and received by the application submission date will be accepted. Facsimile corrections to technical deficiencies will be accepted. Also, videos submitted as part of an application will not be viewed.

D. Intergovernmental Review

Executive Order 12372 review does not apply to SHOP.

E. Funding Restrictions

1. Administrative costs. Administrative costs may not exceed 20 percent of any SHOP grant. Indirect costs may only be charged to the SHOP grant under a cost allocation plan prepared in accordance with OMB Circular A-122.

2. Pre-agreement costs. After submission of the application, but before the effective date of the SHOP Grant Agreement, an applicant may incur costs that may be charged to its SHOP grant provided the costs are eligible (see Section III.C.1.) and in compliance with the requirements of this NOFA (including environmental review requirements) and the application. Applicants incur costs at their own risk, because applicants that do not receive a SHOP grant cannot be reimbursed.

3. Ineligible Costs. Costs associated with the rehabilitation, improvement, or construction of dwellings and any other costs not identified in Section III.C.1. are not eligible uses of program funds. Acquiring land for land banking purposes (i.e., holding land for an indefinite period) is an ineligible use of SHOP funds. Acquisition undertaken by the applicant or its affiliate before the submission of the application is not an eligible cost.

F. Other Submission Requirements

1. You must meet all submission requirements described in Section IV.F of the General Section, except the requirement for waiver of electronic submissions. Please refer to Section IV.F of the General Section (70 FR 13582) for detailed submission instructions, including methods for submission and timely receipt requirements for electronic and mailed applications. Applicants should carefully review these instructions as there have been major changes implemented for all HUD's 2005 NOFAs.

2. In addition to the submission requirements described in Section IV.F.4 of the General Section, please note the following direction specific to SHOP. During FY 2005, HUD strongly encourages submission of electronic applications. Electronic applications must be submitted through the www.Grants.gov portal. While electronic application submission through Grants.gov is encouraged, an applicant that wishes to submit a paper application must send an original and two copies to the Department of Housing and Urban Development, Central Processing Unit, Room 7152, 451 Seventh Street, SW., Washington, DC 20410, ATTN: Self-Help Homeownership Opportunity Program (SHOP). In subsequent years of competition, electronic submissions will be expected.

V. Application Review Information

A. Criteria

Rating Factor 1: Capacity of the Applicant and Relevant Organizational Staff (30 Points)

This factor examines the extent to which you, as a single applicant or consortium (including individual consortium members), have the experience and organizational resources necessary to carry out the proposed activities effectively and in a timely manner. Any applicant that does not receive at least 20 points under this factor will not be eligible for funding.

In evaluating this factor, HUD will consider your recent and relevant experience in carrying out the activities you propose, and your administrative and fiscal management capability to administer the grant, including the ability to account for funds appropriately. All applicants, including individual consortium members, must have capacity and experience in administering or facilitating self-help housing. If you are sponsoring affiliate organizations that do not have experience in developing self-help housing, HUD will assess your organization's experience in providing technical assistance and the ability to mentor new affiliates. For applicants that currently have open SHOP grants, HUD will assess your organization's past performance based upon performance reports that demonstrate your organization's completion of eligible SHOP activities, the number of families provided housing, financial status information focusing on timely use of funds, and other program outcomes. HUD will consider whether you have had funds deobligated for failure to meet your drawdown and construction schedules or funds were returned because of monitoring findings or other program deficiencies. HUD will also rely on monitoring reports, audit reports, and other information available to HUD in making its determination under this factor. For applicants that currently have open SHOP grants from previous years, HUD will assess your pattern of meeting benchmarks in the most recent three years of participation in the program. If you are not a current recipient of SHOP funds, you must summarize your past performance in undertaking similar or the same activities during the past three years. You may supplement your narrative with existing internal or external performance reports or other information that will assist HUD in making this determination and submit it as an appendix. Supplemental information and reports from applicants that have not received previous SHOP funding do not count against the page limitations. Failure to provide this information will result in a lower score.

Submission Requirements for Rating Factor 1

a. Past Experience (12 points). You must describe your past experience in carrying out self-help housing activities (specify the time frame during which these activities occurred) that are the same as, or similar to, the activities you propose for funding, and demonstrate that you have had reasonable success in carrying out and completing those activities. You must include the average number of sweat equity hours provided per homebuyer family, and the average number of volunteer labor hours provided per unit. You may demonstrate reasonable success by showing that your previous activities were carried out as proposed, consistent with the time frame you proposed for completion of all work. You must provide evidence regarding your performance in meeting established benchmarks for acquiring properties and completing housing construction and indicate that performance reports were submitted as required. New applicants furnishing supplemental material should refer to the introduction to this rating factor. To the extent that you encountered delays that were beyond your control, please describe the circumstances causing the delays and the mitigating actions taken to overcome them to successfully complete your program.

b. Management Structure (12 points). You must provide a description of your organization's or consortium's management structure, including an organizational chart. You must also describe your key staff and their specific roles and responsibilities for day-to-day management of your proposed SHOP program. You must indicate if you will or will not be working with organizations that are inexperienced in carrying out self-help housing and describe how you will provide technical assistance and mentor these organizations to develop capacity either directly or indirectly.

c. Experience Developing Accessible Housing (6 points). You must demonstrate your experience in and ability to construct and alter self-help housing by describing the kinds of features that you have used to design homes in accordance with universal design and visitability standards, or otherwise make homes accessible to the elderly or persons with disabilities. You must provide data on the number of accessible units you have completed and the time frame during which units were constructed and/or altered.

Rating Factor 2: Need/Extent of the Problem (10 Points)

This factor examines the extent to which you demonstrate an urgent need for SHOP funds in your proposed target areas based on the need for affordable housing and the quality of the data submitted to substantiate that need.

The purpose of this factor is to make sure that funding is provided where a need for funding exists. Under this factor, you must identify the community need or needs that your proposed SHOP activities are designed to address. If you plan to select some or all affiliates after application submission, you must demonstrate how the selection of affiliates will help to address the needs identified in the proposed target areas.

Submission Requirements for Rating Factor 2

Extent of Need for Affordable Housing (10 points). You must establish the need for affordable housing and the specific need for SHOP funds in the communities or areas in which your proposed activities will be carried out. You must specifically address the need for acquisition and/or infrastructure assistance for self-help housing activities in these identified areas and how your proposed SHOP activities meet these needs. Also, to the extent information is available, you must address the need for accessible homes in the target area(s); evidence of housing discrimination in the target area(s); and any need for housing shown in the local Analysis of Impediments to Fair Housing Choice, if appropriate. Applicants that select affiliates after application submission must submit a list of affiliates they surveyed and upon which they are basing their need for SHOP funding, as well as the specific criteria to be used to select communities or projects based on need.

In reviewing applications, HUD will consider the extent, quality, and validity of the information and data submitted that addresses the need for affordable housing in the target area. Such information must include:

a. Housing market data in the proposed target areas including, but not limited to: Low-income, minority, and disability populations; number of home sales and median sales price; and homeownership, rental, and vacancy rates. This information can be obtained from state or regional housing plans, the American Housing Survey, the United States Census, Home Mortgage Disclosure Act data or other local data sources, such as Consolidated Plans, comprehensive plans, local tax assessor databases, or relevant realtor information. Data included in your application must be recent and specific to your proposed target areas; and

b. Housing problems in the proposed target areas such as overcrowding, cost burden, housing age or deterioration, low homeownership rate (especially among minority families, families with children, and families with members with disabilities), and lack of adequate infrastructure or utilities.

Rating Factor 3: Soundness of Approach (40 Points)

This factor examines the quality and soundness of your plan to carry out a self-help housing program. In evaluating this factor HUD will consider the areas described below:

a. Your proposed use of SHOP funds, including the number of units and the type(s) of housing to be constructed, and the use of sweat equity and volunteer labor; your schedule for expending funds and completing construction, including interim milestones; the proposed budget and cost effectiveness of your program; and your plan to reach all potentially eligible homebuyers, including those with disabilities and others least likely to apply; and your criteria for selecting homebuyers.

b. How your planned activities further the five HUD policy priorities that apply specifically to SHOP in FY 2005 as described in the General Section (70 FR 13586). The policy priorities for SHOP are:

(1) Providing increased homeownership opportunities for low- and moderate-income persons, persons with disabilities, the elderly, minorities, and families with limited English proficiency;

(2) Encouraging accessible design features: visitability in new construction and substantial rehabilitation and universal design;

(3) Providing full and equal access to grassroots, faith-based, and other community-based organizations in HUD program implementation;

(4) Participation in Energy Star; and

(5) Removal of regulatory barriers to affordable housing.

Submission Requirements for Rating Factor 3

Activities. Describe the types of activities that you propose to fund with SHOP and the proposed number of units to be assisted with SHOP funding, the housing type(s) (single family or multifamily, or both) to be assisted and the form of ownership (fee simple, condominium, cooperative, etc.) you propose to use.

a. Sweat Equity and Volunteer Labor (6 points). Describe your program's requirements for sweat equity and volunteer labor (i.e., types of tasks and numbers of hours required for both sweat equity and volunteer labor) and how you will provide reasonable accommodations for persons with disabilities by identifying sweat equity assignments that can be performed by the homebuyer regardless of the disability, such as doing administrative, clerical, organizational, or other office work or minor tasks on site. Reasonable accommodation can include sweat equity by the homebuyer that can be performed regardless of the disability or substitution of a non-homebuyer designee(s) to perform the sweat equity assignments on behalf of the homebuyer. Volunteers who substitute for disabled homebuyers must enter into an agreement to complete the work on behalf of the homebuyers. Include the dollar value of both the sweat equity and volunteer labor contributions and specify the amount by which these contributions will reduce the sales price to the homebuyer. Applicants showing a larger reduction of the sales price as a result of the homebuyer's sweat equity and volunteer labor contributions will receive a higher score.

b. Funds Expenditure, Construction, and Completion Schedules (5 points). Submit a construction and completion schedule that expends SHOP funds and substantially fulfills your obligations if you are funded. You must provide a definition of “substantially fulfills” by specifically stating the percentage or number of properties that you propose to be completed and conveyed to homebuyers at the time all grant funds are expended. Your construction schedule must include the number of dwelling units to be completed within 24 months or, in the case of affiliates that develop five or more units, within 36 months, and a time frame for completing any unfinished units.

Your schedule must also include milestones or benchmarks against which HUD can measure your progress in selecting local affiliates if they are not specifically identified in the application, expending funds, and completing acquisition, infrastructure, and housing construction activities within these schedules. These milestones or benchmarks should be established at reasonable intervals (e.g., monthly, quarterly).

c. Budget (6 points). Provide a detailed budget including a breakdown for each proposed task and each budget category (acquisition, infrastructure improvements, and administration) funded by SHOP in the HUD-424-CB and 424-CBW. If SHOP funds will be used for administration of your grant, you must include the cost of monitoring consortium members and affiliates at least once during the grant period. Your detailed budget must also include leveraged funding to cover costs of completing construction of the proposed number of units. Budget amounts on the HUD-424-CB and 424-CBW must agree with amounts stated elsewhere in the application.

d. Cost Effective (3 points). Describe how the cost of your proposed SHOP units compares to similar units in the target area(s) that are not funded with SHOP. You must demonstrate that your SHOP costs will not exceed an average of $15,000 per unit, and that your proposed self-help housing activities are cost-effective. Applicants must address costs of land, infrastructure, and housing construction for non-SHOP units.

e. Policy Priorities (6 points). Describe how each of the five HUD policy priorities identified specifically for SHOP is furthered by your proposed activities. You will receive up to one point for each policy priority (1), (2), (3), and (4) based on how well your proposed work activities address the specific policy, and up to two points for how you address policy priority (5), removal of regulatory barriers to affordable housing, for which you must submit form HUD-27300, Questionnaire for HUD's Initiative on Removal of Regulatory Barriers, except as provided below. Applicants that identify affiliate organizations and jurisdictions to be served in their application to HUD should address the questions in Part A or Part B of form HUD-27300 for the jurisdiction in which the majority or plurality of services will be performed. Applicants that do not identify affiliates and communities to be served in their application to HUD, but select affiliates competitively or through another method after application submission to HUD, may address this policy priority by including it as an evaluative criterion in their affiliate selection process. Such applicants may receive up to two points by requiring affiliate applicants for the awarded SHOP funds to complete the questions in either Part A or B, as appropriate. In order to receive points, applicants that identify affiliates after application submission must include their evaluative criterion as an appendix, and, if awarded SHOP funds in FY 2004, must demonstrate how the evaluative criteria that were included in your FY 2004 application were implemented. You must also describe how the evaluative criteria affected the selection and funding of affiliates, to the extent this has been completed. The narrative for your evaluative criteria does not count against the page limits described in Section IV.B.1, Page Limits.

Applicants applying for funds for projects located in local jurisdictions and counties/parishes are invited to answer 20 questions under Part A. An applicant that scores at least five in column 2 will receive 1 point in the NOFA evaluation. An applicant that scores 10 or more in column 2 will receive 2 points in the NOFA evaluation. The community(ies) must be identified on the form HUD-27300.

Applicants applying for funds for projects located in unincorporated areas or areas otherwise not covered in Part A are invited to answer the 15 questions in Part B. Under Part B, an applicant that scores at least four points in Column 2 will receive one point in the NOFA evaluation. Under Part B, an applicant that scores eight points or greater will receive a total of two points in the evaluation. The community(ies) must be identified on the form HUD-27300.

A limited number of questions on form HUD-27300 expressly request the applicant to provide brief documentation with its response. Other questions require that, for each affirmative statement made, the applicant supply a reference, Web site address, or brief statement indicating where the back-up information may be found, and a point of contact, including a telephone number or e-mail address. Applicants are encouraged to read HUD's notices published in the Federal Register on March 22 (69 FR 13450) and April 21 (69 FR 21663), 2004, to obtain an understanding of this policy priority and how it can impact your score.

f. Program Outreach (4 points). Describe materials or services that will be used to reach potential homebuyers, including persons least likely to apply. For example, what alternative formats will be used to reach persons with a variety of disabilities and what language accommodations will be made for persons with limited English proficiency.

g. Homebuyer Selection (6 points). Describe your criteria for selecting homebuyers, including the minimum and maximum income of targeted homebuyers, and other criteria and selection procedures. If the selection criteria or procedures used by individual consortium members or affiliates are different from your criteria, you must describe the differences. You must specify the definition of annual income that you will use to determine the income eligibility of homebuyers as described in Section III.C.2.e. If a consortium member's or affiliate's definition of annual income is different from your income definition, you must identify the consortium member or affiliate and its definition. For organizations that select affiliates after application submission, you must specify how you will impose this requirement in your selection of affiliates.

h. Performance and Monitoring (4 points). Describe your plan for overseeing the performance of consortium members and affiliates, including a plan for monitoring each consortium member and affiliate for program compliance at least once during the term of the grant. Your plan should address when and how you will shift funds among consortium members and affiliates to ensure timely and effective use of SHOP funds within the schedule submitted for item b. above.

Rating Factor 4: Leveraging Resources (10 Points)

This factor addresses your ability to secure other resources that can be combined with HUD's program resources to fully fund your proposed program. When combined with the SHOP grant funds, homebuyer sweat equity, and volunteer labor, your leveraged resources must be sufficient to develop the number of units proposed in your application. HUD will consider only those leveraging contributions for which current firm commitments as described in this factor have been provided. A firm commitment means a written agreement under which the applicant, a partner, or an entity agrees to perform services or provide resources for an activity specified in your application. Firm commitments in the form of cash funding (e.g., grants or loans), in-kind contributions, donated land and construction materials, and donated services will count as leverage. Leveraging does not include the dollar value of sweat equity and volunteer labor for your proposed activities. Leveraging does not include financing provided to homebuyers. However, financing provided through the U.S. Department of Agriculture's Section 502 direct loans to homebuyers for construction of their dwellings counts as leveraging for mutual self-help housing programs. Firm commitments must be substantiated by the documentation described below.

Submission Requirements for Rating Factor 4

Firm Commitments of Resources (10 Points). Provide firm commitments (letters, agreements, pledges, etc.) of leveraged resources or services from the source of the commitment. In order to be considered, leveraged resources or services must be committed in writing and include your organization's name, the contributing organization's name (including designation as a Federal, State, local, or private source), the proposed type of commitment, and dollar value of the commitment as it relates to your proposed activities. Each letter of commitment must be signed by an official of the organization legally able to make the commitment on behalf of the organization. See section IV.F, Other Submission Requirements, of the General Section (70 FR 13583) regarding the procedures for submitting third-party documentation. Each letter of commitment must specifically support your FY 2005 SHOP application or specific projects in your FY 2005 application. If your organization depends upon fundraising and donations from unknown sources/providers, you must submit a separate letter committing a specific amount of dollars in fundraising to your proposed FY 2005 SHOP program. Likewise, if you have received funds from organizations and agencies from previous years that are not committed to another activity and you have the sole discretion to commit these funds to your FY 2005 SHOP program, you must submit a separate letter committing these dollars to your FY 2005 SHOP program. In all instances, the dollar amount must be stated in the letters. Letters of commitment may be contingent upon your receiving a grant award. Letters of commitment must be included as an appendix to your application, and do not count toward the page limitation noted in Section IV.B.1. Unsigned, undated, or outdated letters, letters only expressing support of your organization or its proposal, or those not specifically stating the dollar amount or linking the resources to your FY 2005 SHOP application or specific projects in your FY 2005 application do not count as firm commitments.

To receive full credit for leveraging, an applicant's leveraging resources must be clearly identified for its FY 2005 SHOP application and must total at least 50 percent of the amount shown on forms HUD-424-CB needed to complete all properties, minus the proposed SHOP grant amount, homebuyer sweat equity, and volunteer labor.

Rating Factor 5: Achieving Results and Program Evaluation (10 Points)

This factor emphasizes HUD's determination to track whether applicants meet commitments made in their applications and grant agreements and assess their performance in realizing performance goals. HUD requires SHOP applicants to develop an effective, quantifiable, outcome-oriented evaluation plan for measuring performance and determining whether goals have been met using the Logic Model, form HUD-96010. “Outcomes” are benefits accruing to the families and/or communities during or after participation in the SHOP program. The self-help housing units developed are outputs as described under this factor, not outcomes. Applicants must clearly identify the outcomes to be achieved and measured. Examples of outcomes for SHOP include increasing the homeownership rate in a neighborhood or among low-income families by a certain percentage, increasing financial stability (e.g., increasing assets of the low-income homebuyer households through additional savings or home equity) or increasing housing stability (e.g., whether persons and families assisted remain in the home one, two, or five or more years after completion). Outcomes must be quantifiable.

In addition, applicants must establish interim benchmarks for which outputs lead to the ultimate achievement of outcomes. “Outputs” are the direct products of the applicant's program activities. Examples of outputs for SHOP include the number of houses constructed, number of sweat equity hours, or number of homes rehabilitated. Outputs should produce outcomes for your program. Outputs must be quantifiable.

“Interim benchmarks” are steps or stages in your activities that, if reached or completed successfully, will result in outputs for your program. Examples of interim benchmarks for SHOP include income-qualifying homebuyers, obtaining building permits, or securing construction materials and equipment.

Program evaluation requires that you identify program outcomes, outputs, benchmarks, and performance indicators that will allow you to measure your performance. Performance indicators should be objectively quantifiable and measure actual achievements against anticipated achievements. Your evaluation plan should identify what you are going to measure, how you are going to measure it, and the steps you have in place to make adjustments to your work plan if performance targets are not met within established time frames. This factor reflects HUD's goal to embrace high standards of ethics, management, and accountability. Successful applicants will be required to periodically report on their progress in achieving the proposed outcomes identified in the application.

Submission Requirements for Rating Factor 5

Program Evaluation Plan (10 Points). In narrative format, you must submit a program evaluation plan that demonstrates how you will measure your own program performance. Your plan must identify the interim benchmarks, outputs, and outcomes you expect to achieve including time frames for accomplishing these goals. Your plan must demonstrate how interim benchmarks relate to outputs and subsequently to outcomes in your proposed program. Your plan must include performance indicators to measure actual accomplishments against anticipated achievements. You must indicate how your plan will measure the performance of individual consortium members and affiliates, including the standards and measurement methods, and the steps you have in place or how you plan to make adjustments if you begin to fall short of established benchmarks and time frames. In addition to your program evaluation plan, you must complete the Logic Model, form HUD-96010. Using form HUD-96010 to respond to this factor counts toward the page limits set forth in section IV, B of this NOFA. Form HUD-96010 may be downloaded from www.grants.gov/Apply. In rating this factor, HUD will consider whether the application identifies outcome measures that meet the definition set out in this NOFA as well as the effectiveness of proposed measurement techniques.

B. Review and Selection Process

1. Factors for Award Used To Evaluate Applications

HUD will evaluate all SHOP applications that successfully complete technical processing and meet threshold and submission requirements for Factors 1 through 5. The maximum number of points awarded for the rating factors is 100 plus the possibility of an additional 2 RC/EZ/EC-II bonus points.

2. RC/EZ/EC-II Bonus Points

Applicants may receive up to 2 bonus points for eligible activities that the applicant proposes to locate in federally designated Empowerment Zones (EZs), renewal communities (RCs), or enterprise communities (ECs) designated by the United States Department of Agriculture (USDA) in Round II (EC-IIs) that are intended to serve the residents of these areas and that are certified to be consistent with the area's strategic plan or RC Tax Incentive Utilization Plan. For ease of reference in this notice, all of the federally designated areas are collectively referred to as “RC/EZ/EC-IIs” and the residents of these federally designated areas as “RC/EZ/EC-II residents.” The RC/EZ/EC-II certification must be completed for an applicant to be considered for RC/EZ/EC-II bonus points. A list of RC/EZ/EC-IIs can be obtained from HUD's grants web page at www.hud.gov/offices/adm/grants/fundsavail.cfm. Applicants can determine if their program or project activities are located in one of these designated areas by using the locator on HUD's Web site at www.hud.gov/crlocator. Copies of the certification can be found in the electronic application and on HUD's Web site at http://www.hud.gov/offices/adm/grants/nofa05/snofaforms.cfm.

The certification must be completed and signed by the appropriate official in the RC/EZ/EC-II for an applicant to be considered for RC/EZ/EC-II bonus points.

3. Rating

Applications that meet all threshold requirements listed in Section III.C will be rated against the criteria in Factors 1 through 5 and assigned a score. Applications that do not meet all threshold factors will be rejected and not rated.

4. Ranking and Selection Procedures

Applications that receive a total of 75 points or more (without the addition of RC/EZ/EC-II bonus points) will be eligible for selection. RC/EZ/EC-II bonus points will be awarded as follows: 2 points to an applicant with over 25 percent of its proposed units in RC/EZ/EC-II; 1 point for 10 to 25 percent of units in RC/EZ/EC-IIs; and 0 points below 10 percent of units in RC/EZ/EC-II zones. After adding any bonus points for RC/EZ/EC-IIs, HUD will place applications in rank order. HUD will consider rank order, funds availability, and past performance in the selection and funding of applications.

5. Technical Deficiencies

After the application submission date and consistent with regulations in 24 CFR part 4, subpart B, HUD may not consider any unsolicited information you may want to provide. HUD may contact you to clarify an item in your application or to correct technical deficiencies. In order not to unreasonably exclude applications from being rated and ranked, HUD may contact applicants to ensure proper completion of the application and will do so on a uniform basis for all applicants. However, HUD may not seek clarification of items or responses that improve the substantive quality of your response to any rating factor.

Examples of curable (correctible) technical deficiencies include inconsistencies in the funding request, a failure to submit the proper certifications, or failure to submit an application that contains an original signature by an authorized official. In each case, HUD will notify you in writing by describing the clarification or technical deficiency. Applicants will be notified by facsimile or by United States Postal Service (USPS), return receipt requested. Clarifications or corrections to technical deficiencies in accordance with the information provided by HUD must be submitted within 14 calendar days of the date of receipt of the HUD notification. If the due date falls on a Saturday, Sunday, or Federal holiday, your correction must be received by HUD on the next day that is not a Saturday, Sunday, or Federal holiday. If the deficiency is not corrected within this time period, HUD will reject your application as incomplete and it will not be considered for funding.

6. HUD's Strategic Goals To Implement HUD's Strategic Frameworks and Demonstrate Results

See the General Section (70 FR 13586) for HUD's Strategic Goals.

7. Policy Priorities

Please refer to Section V.A.2 of the General Section (70 FR 13586) for information regarding application criteria addressing HUD's policy priorities.

Note: Upon completion of all applications, grant selections and awards, HUD intends to add relevant data for the SHOP program obtained from the “Removal of Regulatory Barriers” policy priority factor to the database on state and local regulatory reform actions maintained at the Regulatory Barrier Clearinghouse Web site at www.huduser.org.rbc/ used by states, localities, and housing providers to identify regulatory barriers and learn of exemplary local efforts at regulatory reform.

VI. Award Administration Information

A. Award Notices

1. HUD reserves the right to:

a. Fund less than the amount requested by any applicant based on the application's rank, the applicant's past performance, and the amount of funds requested relative to the total amount of available funds;

b. Fund less than the full amount requested by any applicant to ensure a fair distribution of the funds and the development of housing on a national, geographically diverse basis as required by the statute; and/or

c. Not award funds to an applicant with significant performance problems.

HUD will not fund any portion of an application that is ineligible for funding under program threshold requirements in Section III.C.2 or which does not meet other threshold and pre-award requirements in Section III.C.4. The minimum grant award shall be the amount necessary to complete at least 30 units at an average investment of not more than $15,000 per unit or a lesser amount if lower costs are reflected in the application. If any funds remain after all selections have been made, these funds may be available for subsequent competitions.

2. Debriefing. For a period of at least 20 days, beginning 30 days after the awards for assistance are publicly announced, HUD will provide to a requesting applicant a debriefing related to its application. A debriefing request must be made in writing or by email by its authorized official whose signature appears on the SF-424 or his or her successor in the office and submitted to Ms. Lou Thompson, Office of Affordable Housing Programs, U.S. Department of Housing and Urban Development, 451 Seventh Street, SW., Room 7164, Washington, DC 20410-7000. Information provided during a debriefing will include, at a minimum, the final score you received for each rating factor, final evaluation comments for each rating factor, and the final assessment indicating the basis upon which assistance was provided or denied.

B. Administration and National Policy Requirements

1. When administering your SHOP award, you are required to comply with the following administrative and financial requirements:

A-122 Cost Principles for Non-Profit Organizations; A-133 (Audits of States, Local Governments, and Non-Profit Organizations); and the regulations at 24 CFR part 84 (Grants and Agreements with Institutions of Higher Education, Hospitals, and other Non-Profit Organizations).

2. Copies of the OMB Circulars may be obtained from EOP Publications, Room 2200, New Executive Office Building, Washington, DC 20503, telephone (202) 395-3080 (this is not a toll-free number) or (800) 877-8339 (toll-free TTY Federal Information Relay Service) or from the Web site at http://www.whitehouse.gov/omb/circulars/index.html.

3. Please refer to all award administration information requirements described in Section VI (“Award Administration Information”) of the General Section (70 FR 13590).

C. Reporting. Grantees are required to submit quarterly and annual reports providing data on the construction status, unit characteristics, and income and racial and ethnic composition of homeowners in SHOP-funded properties. For each reporting period, as part of the required report to HUD, grant recipients must include a completed Logic Model (form HUD-96010), which identifies output and outcome achievements.

VII. Agency Contact

Further Information and Technical Assistance. Before the application due date, HUD staff is available to provide general guidance and technical assistance about this NOFA. However, staff is not permitted to assist in preparing your application. Also, following selection of applicants, but before awards are announced, staff may assist in clarifying or confirming information that is a prerequisite to the offer of an award. You may contact Ms. Lou Thompson, SHOP Program Manager, Office of Affordable Housing Programs, U.S. Department of Housing and Urban Development, 451 Seventh Street, SW., Room 7164, Washington, DC 20410-7000, telephone (202) 708-2684 (this is not a toll-free number). This number can be accessed via TTY by calling the toll-free Federal Information Relay Service Operator at (800) 877-8339. For technical support for downloading an application or electronically submitting an application, please call Grants.gov Customer Support at 800-518-GRANTS (this is a toll-free number) or e-mail at support@grants.gov.

VIII. Other Information

A. Please review Section VIII.A., B., E., F., G., and H. (“Other Information”) of the General Section (70 FR 13591), and please note that these subsections are incorporated by reference.

B. Paperwork Reduction Act. The information collection requirements contained in this document have been approved by the Office of Management and Budget (OMB) under the Paperwork Reduction Act of 1995 (44 U.S.C. 3501-3520) and assigned OMB control number 2506-0157. In accordance with the Paperwork Reduction Act, HUD may not conduct or sponsor, and a person is not required to respond to, a collection of information unless the collection displays a currently valid OMB control number. Public reporting burden for the collection of information is estimated to average 60 hours per annum per respondent for the application and grant administration. This includes the time for collecting, reviewing, and reporting the data for the application, quarterly, and annual report, and final report. The information will be used for grantee selection and monitoring the administration of funds. Response to this request for information is required in order to receive the benefits to be derived.

C. Environmental Impact. A Finding of No Significant Impact with respect to the environment has been made for this Notice in accordance with the regulations at 24 CFR part 50 that implement Section 102(2)(c) of the National Environmental Policy Act of 1969 (42 U.S.C. 4332 (C)). The Finding of No Significant Impact is available for public inspection between 8 a.m. and 5 p.m. in the Office of the General Counsel, Regulations Division, Department of Housing and Urban Development, 451 Seventh Street, SW., Room 10276, Washington DC 20410-0500.

Dated: August 31, 2005.
Pamela H. Patenaude,
Assistant Secretary for Community Planning and Development.

BILLING CODE 4210-29-P

[FR Doc. 05-17727 Filed 9-7-05; 8:45 am]

BILLING CODE 4210-29-C